DEPARTMENT OF ENERGY

Federal Energy Regulatory Commission

[Project No. 14388-000]

Notice of Preliminary Permit Application Accepted for Filing and Soliciting Comments, Motions To Intervene, and Competing Applications; Coralville Energy, LLC

On April 18, 2012, the Coralville Energy, LLC filed an application for a preliminary permit under section 4(f) of the Federal Power Act proposing to study the feasibility of the proposed Coralville Dam Hydroelectric Project No. 14388, to be located at the existing Coralville Dam on the Iowa River, near Iowa City in Johnson County, Iowa. The Coralville Dam is owned by the United States government and operated by the United States Army Corps of Engineers.

The proposed project would consist of: (1) One new 50-foot-long by 50-foot-wide by 30-foot-high powerhouse, containing two 2.3-megawatt (MW) propeller type turbine/generator units for a total capacity of 4.6 MW; (2) an existing 65-foot-long by 65-foot-wide by 100-foot-high intake structure; (3) an existing 350-foot-long by 23-foot-diameter concrete conduit; (4) a new 30-foot-long by 60-foot-wide by 30-foot-high bifurcation structure; (5) a new 150-foot-long by 15-foot-diameter steel penstock; (6) a new 450-foot-long, 12.7-kilovolt transmission line; and (7) appurtenant facilities. The project would have an estimated annual generation of 26.252 gigawatt-hours.

Applicant Contact: Mr. Mark Boumansour, 1035 Pearl Street, 4th Floor, Boulder, CO 80302; (720) 295-3317.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application can be viewed or printed on the “eLibrary” link of the Commission's Web site at http://www.ferc.gov/docs-filing/elibrary.asp. Enter the docket number (P-14388) in the docket number field to access the document. For assistance, contact FERC Online Support.

Dated: June 15, 2012.
Kimberly D. Bose,
Secretary.

[FR Doc. 2012-15253 Filed 6-21-12; 8:45 am]

BILLING CODE 6717-01-P